ENVIRONMENTAL PROTECTION AGENCY

40 CFR Part 52

[EPA-R09-OAR-2010-0715; FRL-9214-3]

Approval and Promulgation of Implementation Plans—Maricopa County (Phoenix) PM-10 Nonattainment Area; Serious Area Plan for Attainment of the 24-Hour PM-10 Standard; Clean Air Act Section 189(d)

AGENCY: Environmental Protection Agency (EPA).

ACTION: Proposed rule; extension of comment period.

SUMMARY: On September 9, 2010 (75 FR 54806), EPA published a proposed rule proposing to approve in part and disapprove in part State implementation plan (SIP) revisions submitted by the State of Arizona to meet, among other requirements, section 189(d) of the Clean Air Act (CAA) for the serious Maricopa County (Phoenix) nonattainment area (Maricopa area). Specifically, EPA proposed to disapprove provisions of the 189(d) plan because they do not meet applicable CAA requirements for emissions inventories as well as for attainment, five percent annual emission reductions, reasonable further progress and milestones, and contingency measures. EPA also proposed to disapprove the 2010 motor vehicle emission budget in the 189(d) plan as not meeting the requirements of CAA section 176(c) and 40 CFR 93.118(e)(4). EPA also proposed a limited approval and limited disapproval of State regulations for the control of PM-10 from agricultural sources. Finally, EPA proposed to approve various provisions of State statutes relating to the control of PM-10 emissions in the Maricopa area.

EPA is extending the comment period on the proposed rule from October 12, 2010 to October 20, 2010.

DATES: Any comments must arrive by October 20, 2010.

ADDRESSES: Submit comments, identified by docket number EPA-R09-OAR-2010-0715, by one of the following methods:

1. Federal eRulemaking Portal: http://www.regulations.gov. Follow the on-line instructions.

2. E-mail: nudd.gregory@epa.gov.

3. Mail or deliver: Gregory Nudd (Air-2), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Gregory Nudd, U.S. EPA Region 9, 415-947-4107, nudd.gregory@epa.gov or http://www.epa.gov/region09/air/actions.

SUPPLEMENTARY INFORMATION: On September 9, 2010 (75 FR 54806), EPA published a proposed rule proposing to approve in part and disapprove in part State implementation plan (SIP) revisions submitted by the State of Arizona to meet the Clean Air Act (CAA) requirements applicable to the serious Maricopa County (Phoenix) nonattainment area (Maricopa area). These requirements apply to the Maricopa area following EPA's June 6, 2007 finding that the area failed to meet its December 31, 2006 serious area deadline to attain the national ambient air quality standards (NAAQS) for particulate matter of ten microns or less (PM-10). Under CAA section 189(d), Arizona was required to submit a plan by December 31, 2007 providing for expeditious attainment of the PM-10 NAAQS and for an annual emission reduction in PM-10 or PM-10 precursors of not less than five percent per year until attainment (189(d) plan).

In the Agency's September 9, 2010 proposed rule, EPA proposed to disapprove provisions of the 189(d) plan for the Maricopa area because they do not meet applicable CAA requirements for emissions inventories as well as for attainment, five percent annual emission reductions, reasonable further progress and milestones, and contingency measures, and to disapprove the 2010 motor vehicle emission budget in the 189(d) plan as not meeting the requirements of CAA section 176(c) and 40 CFR 93.118(e)(4). EPA also proposed a limited approval and limited disapproval of State regulations for the control of PM-10 from agricultural sources. Finally, EPA proposed to approve various provisions of State statutes relating to the control of PM-10 emissions in the Maricopa area.

The September 9, 2010 proposed rule provided a 30-day public comment period ending on October 12, 2010. In response to a request for an extension of the comment period from Benjamin H. Grumbles, Director, Arizona Department of Environmental Quality, and Dennis Smith, Executive Director, Maricopa Association of Governments, submitted by letter dated October 4, 2010, EPA is extending the comment period to October 20, 2010.

Dated: October 7, 2010.
Jared Blumenfeld,
Regional Administrator, EPA Region IX.

[FR Doc. 2010-26019 Filed 10-13-10; 8:45 am]

BILLING CODE 6560-50-P